FEDERAL ACCOUNTING STANDARDS ADVISORY BOARD

Notice of Issuance of Statement of Federal Financial Accounting Standards (SFFAS)

AGENCY: Federal Accounting Standards Advisory Board.

ACTION: Notice of Issuance of Statement of Federal Financial Accounting Standards (SFFAS) No. 33, Pensions, Other Retirement Benefits, and Other Post-employment benefits: Reporting Gains and Losses from Changes in Assumptions and Selecting Discount Rates and Valuation Dates.

Board Action: Pursuant to 31 U.S.C. 3511(d), the Federal Advisory Committee Act (Pub. L. No. 92-463), as amended, and the FASAB Rules Of Procedure, as amended in April 2004, notice is hereby given that the Federal Accounting Standards Advisory Board (FASAB) has issued Statement of Federal Financial Accounting Standard 33, Pensions, Other Retirement Benefits, and Other Post-employment benefits: Reporting Gains and Losses from Change in Assumptions and Selecting Discount Rates and Valuation Dates.

A summary of the standard follows: The standard highlights gains and losses from changes in assumptions in federal financial reports. Some of the most significant changes in amounts on the statement of net cost for the consolidated Financial Report of the United States Government (CFR) and for certain component entities can result from such gains and losses.

Copies of the standard can be obtained by contacting FASAB at 202-512-7350. The standard is also available on FASAB's home page http://www.fasab.gov/.

FOR FURTHER INFORMATION CONTACT: Wendy M. Payne, Executive Director, 441 G St., NW., Mail Stop 6K17V, Washington, DC 20548, or call (202) 512-7350.

Authority: Federal Advisory Committee Act. Pub. L. No. 92-463.

Dated: October 20, 2008.
Charles Jackson,
Federal Register Liaison Officer.

[FR Doc. E8-25348 Filed 10-24-08; 8:45 am]

BILLING CODE 1610-01-M